DEPARTMENT OF TRANSPORTATION

Federal Aviation Administration

[Docket No. FAA-2025-0961]

Agency Information Collection Activities: Requests for Comments; Clearance of New Approval of Information Collection: Basic Survival Skills for General Aviation Training Record

AGENCY: Federal Aviation Administration (FAA), DOT.

ACTION: Notice and request for comments.

SUMMARY: In accordance with the Paperwork Reduction Act of 1995, FAA invites public comments about our intention to request the Office of Management and Budget (OMB) approval for a new information collection. The information collected on the Basic Survival Skills for General Aviation Training Record is to provide information that the instructor will use to make the course more applicable to those students in attendance while also ascertaining their swimming capability to ensure safety during the training course. The information collected is required to assess and verify a student's ability to attend the post-crash survival course.

DATES: Written comments should be submitted by July 14, 2025.

ADDRESSES: Please send written comments:

By Electronic Docket: www.regulations.gov (Enter docket number into search field).

By mail: Civil Aerospace Medical Institute, Aerospace Medical Education (AAM-400), 6500 South MacArthur Blvd., Room 302, Oklahoma City, OK 73169.

By fax: 405-954-2305.

FOR FURTHER INFORMATION CONTACT: Eric Simson by email at: eric.simson@faa.gov; phone: 405-954-6198.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Basic Survival Skills for General Aviation Training Record.

Form Numbers: FAA 3150-3.

Type of Review: Clearance of a new information collection.

Background: The authority for collecting this information is contained in 49 U.S.C. 44703, and 14 CFR 61.31. The data on the Survival Training Record is collected to provide information that the instructor will use to make the course more applicable to those students in attendance while also ascertaining their swimming capability to ensure safety during the hands-on ditching exercise.

The information collected on the Survival Training Record is required by students attending the post-crash survival course. It is reviewed by the training instructor and a member of the Airman Education Program team to personalize the teaching experience, verify the swimming ability and previous survival training experience of those attending this training.

The information collected on the document is done on paper, and not through automated, electronic, mechanical or other technological means. This is because doing so is not possible as it is used in a classroom setting for those that attend training at the time of arrival at the training site and technology is not made available. The form is not available to be printed off the internet and the information will not be made available to the public.

Respondents: It is estimated that this document will be completed by 150 to 200 students, depending on demand, attending post-crash survival training annually at the Civil Aerospace Medical Institute.

Frequency: Monthly.

Estimated Average Burden per Response: 36 seconds per response, 3 minutes to complete per student.

Estimated Total Annual Burden: 10 hours annually.

Issued in Oklahoma City, OK on May 8th, 2025.
Stephanie Terry,
Administrative Officer, Office of Aerospace Management, Program Management Staff (AAM-006).

[FR Doc. 2025-08453 Filed 5-13-25; 8:45 am]

BILLING CODE 4910-13-P